DEPARTMENT OF HEALTH AND HUMAN SERVICES

Health Resources and Services Administration

Current Traumatic Brain Injury State Implementation Partnership Grantees; Non-Competitive One-Year Extension Funds

AGENCY: Health Resources and Services Administration (HRSA), Department of Health and Human Services (HHS).

ACTION: Notice of Non-Competitive One-Year Extension Funds for Current Traumatic Brain Injury (TBI) State Implementation Partnership (H21) Grantees.

SUMMARY: The Health Resources and Services Administration (HRSA) will issue funding for a non-competitive one-year extension for the State Implementation Partnerships (H21) awards to current grantees whose awards are scheduled to end in fiscal year (FY) 2013. Up to $250,000 per grantee will be awarded over a one-year extended project period.

The HRSA TBI Program was initially authorized by the Traumatic Brain Injury Act of 1996 (Pub. L. 104-166) and was most recently reauthorized by the Traumatic Brain Injury Act of 2008 (Pub. L. 110-206). Under this authority, the HRSA TBI Program is charged with improving access to rehabilitation and other services for individuals with traumatic brain injury and their families. The TBI State Implementation Partnership Grants support activities that complement existing state infrastructure to provide needed services following TBI. Through comprehensive and periodic needs and resources assessments, activities supported by grant funds are aligned with the highest priority areas as determined by providers, individuals with TBI and their families, advocates, and other stakeholders. Recipients of grant funds are expected to modify infrastructure in such a way that improvements in service delivery will be sustained beyond the grant period. As part of this charge, grantees must specifically have or develop the following four core components:

(1) A Statewide Advisory Board consisting of members of the community, and representatives of other state agencies with an interest in TBI, such as State Departments of Health, Rehabilitation, Human Services, Education, Transportation, or Labor. This board should also have strong representation from individuals with TBI and/or family members; and also organizations that serve individuals with TBI; and other service providers, medical and non-medical;

(2) A designated state agency that takes responsibility for carrying out activities of the grant;

(3) A statewide needs and resources assessment; and

(4) A comprehensive Statewide Action Plan for assisting individuals with TBI and their families to increase access to needed services and supports.

SUPPLEMENTARY INFORMATION: Grantees of record and intended award amounts are:

Grantee/organization name | Grant number | State | FY2012 authorized funding level | FY2013 estimated funding level
Alabama Department of Rehabilitation Services | H21MC06738 | AL | $245,100 | $245,100
Arizona Department of Economic Security | H21MC06754 | AZ | 249,915 | 249,915
Idaho State University | H21MC07735 | ID | 250,000 | 250,000
Indiana Vocational Rehabilitation Services | H21MC06756 | IN | 249,739 | 249,739
Iowa Department of Public Health | H21MC06748 | IA | 250,000 | 250,000
Massachusetts Rehabilitation Commission | H21MC06737 | MA | 250,000 | 250,000
Michigan Department of Community Health | H21MC06747 | MI | 250,000 | 250,000
Missouri Department of Health and Senior Services | H21MC06740 | MO | 250,000 | 250,000
Nebraska Department of Education | H21MC06758 | NE | 250,000 | 250,000
Health Research, Inc./New York State Department of Health | H21MC06742 | NY | 249,909 | 249,909
North Carolina Department of Health and Human Services | H21MC06746 | NC | 250,000 | 250,000
State of Ohio Rehabilitation Services Commission | H21MC06771 | OH | 248,500 | 248,500
Tennessee Department of Health | H21MC06739 | TN | 250,000 | 250,000
Virginia Department of Rehabilitative Services | H21MC06763 | VA | 250,000 | 250,000
West Virginia University | H21MC11468 | WV | 250,000 | 250,000
Oregon State Department of Education | H21MC06769 | OR | 249,999 | 249,999
Texas Health & Human Services Commission | H21MC16375 | TX | 250,000 | 250,000

Amount of the Award(s): Up to $250,000 per grantee over a one-year project period. CFDA Number: 93.234

Current Project Period:

• All grants in this cohort except Texas: 4/1/2006-3/31/2013 (competing continuations awarded 4/1/2009)

• Texas: 4/1/2006-8/31/2013 (competing award 9/1/2009)

Period of Additional Funding:

• All grants in this cohort except Texas: 4/1/2013—3/31/2014

• Texas: 9/1/2013—8/31/2014

Authority: Public Health Service Act, Title XII, Section 1252 (42 USC 300d-52) as amended by the Children's Health Act of 2000, sec.1304, Pub. L. 106-310, as further amended by the Traumatic Brain Injury Act of 2008, sec. 6(a), Pub. L. 110-206.

Justification: The Maternal Child Health Bureau (MCHB) within HRSA has determined, through assessment of its State Implementation Partnership (H21) grants, that a series of services are commonly identified as “needs” via state-conducted assessments and as such are common programmatic activities pursued under the auspices of H21 grants. MCHB proposes a one-year extension of the current grant cohort to allow time to refine the focus of the H21 program, defining these common activities, crafting appropriate performance measures, and securing clearance to collect uniform data on these activities that demonstrate the impact of this program on the target population.

In the interest of continuing to align the structure of the program with the needs of this population, and therefore fulfilling our legislative charge, the TBI Program proposes this course of action: To align the next grant competition with demonstrated areas of need, to capture uniform data on the impact of this program, to provide for sufficient fiscal resources to continue programmatic activities, and to maintain MCHB programmatic support with the least disruption to the state, community, affected constituencies who are currently receiving assistance and services from these grantees, and the grantees themselves.

In general, the project period for 17 TBI State Implementation Partnership grantees would end March 31, 2013, and a robust competitive process would have taken place in December 2012. MCHB does not believe the idea of conducting a competition at this time is appropriate or cost effective. Therefore, MCHB proposes to extend the project period of these grants into FY 2014. Awards will be subject to the availability of funds.

FOR FURTHER INFORMATION CONTACT: LCDR Donelle McKenna, Maternal and Child Health Bureau, Health Resources and Services Administration, 5600 Fishers Lane, Room 13-61, Rockville, Maryland 20857 or email dmckenna@hrsa.gov.

Dated: February 5, 2013.
Mary K. Wakefield,
Administrator.

[FR Doc. 2013-03153 Filed 2-11-13; 8:45 am]

BILLING CODE 4165-15-P